DEPARTMENT OF COMMERCE

National Telecommunications and Information Administration

Recruitment of First Responder Network Authority Board Members

AGENCY: National Telecommunications and Information Administration, U.S. Department of Commerce.

ACTION: Notice; extension of application window.

SUMMARY: On March 4, 2021, the National Telecommunications and Information Administration (NTIA) published a notice seeking expressions of interest in an appointment to the Board of the First Responder Network Authority (FirstNet Authority). The notice established a deadline of April 5, 2021, for the transmittal of expressions of interest. This notice extends the period for submission of expressions of interest until April 15, 2021.

DATES: Expressions of interest must be postmarked or electronically transmitted on or before April 15, 2021.

ADDRESSES: Applicants should submit expressions of interest to: Michael Dame, Acting Associate Administrator, Office of Public Safety Communications, National Telecommunications and Information Administration, by email to FirstNetBoardApplicant@ntia.gov.

FOR FURTHER INFORMATION CONTACT: Michael Dame, Acting Associate Administrator, Office of Public Safety Communications, National Telecommunications and Information Administration, U.S. Department of Commerce, 1401 Constitution Avenue NW, Room 4078, Washington, DC 20230; telephone: (202) 482-1181; email: mdame@ntia.gov. Please direct media inquiries to NTIA's Office of Public Affairs, (202) 482-7002.

SUPPLEMENTARY INFORMATION: On March 4, 2021, NTIA published a notice seeking expressions of interest in an appointment to the FirstNet Authority Board. See Notice, Recruitment of First Responder Network Authority Board Members, 86 FR 12659 (Mar. 4, 2021). The notice established a deadline of April 5, 2021, for the transmittal of expressions of interest. To ensure that all interested parties have an opportunity to submit expressions of interest, NTIA extends the deadline for submission of expressions of interest to April 15, 2021. All other information in the March 4, 2021 notice remains unchanged.

Dated: March 25, 2021.
Kathy Smith,
Chief Counsel, National Telecommunications and Information Administration.

[FR Doc. 2021-06552 Filed 3-30-21; 8:45 am]

BILLING CODE 3510-WL-P